ENVIRONMENTAL PROTECTION AGENCY

40 CFR Part 63

[MD001-1000; FRL-7136-1]

Approval of Section 112(l) Authority for Hazardous Air Pollutants; State of Maryland; Department of the Environment

AGENCY: Environmental Protection Agency (EPA).

ACTION: Proposed rule.

SUMMARY: EPA is proposing to approve Maryland Department of the Environment's (MDE's) request for delegation of authority to implement and enforce its hazardous air pollutant regulations for perchloroethylene dry-cleaning facilities, hard and decorative chromium electroplating and chromium anodizing tanks, ethylene oxide sterilization facilities, halogenated solvent cleaning, secondary lead smelting, hazardous waste combustors, and portland cement manufacturing which have been adopted by reference from the Federal requirements set forth in the Code of Federal Regulations. This proposed approval will automatically delegate future amendments to these regulations once MDE incorporates these amendments into its regulations. In addition, EPA is proposing to approve of MDE's mechanism for receiving delegation of future hazardous air pollutant regulations. This mechanism entails MDE's incorporation by reference of the unchanged Federal standard into its hazardous air pollutant regulation and MDE's notification to EPA of such incorporation. This action pertains only to affected sources, as defined by the Clean Air Act hazardous air pollutant program, which are not located at major sources, as defined by the Clean Air Act operating permit program. In the Final Rules section of this Federal Register, EPA is approving the State's request for delegation of authority as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Written comments must be received on or before March 1, 2002.

ADDRESSES: Written comments on this action should be sent concurrently to: Makeba A. Morris, Chief, Permits and Technical Assessment Branch, Mail Code 3AP11, Air Protection Division, U.S. Environmental Protection Agency, Region III, 1650 Arch Street, Philadelphia, PA 19103-2029, and Anne Marie DeBiase, Director, Air and Radiation Management Administration, Maryland Department of the Environment, 2500 Broening Highway, Baltimore, MD 21224. Copies of the documents relevant to this action are available for public inspection during normal business hours at the Air Protection Division, U.S. Environmental Protection Agency, Region III, 1650 Arch Street, Philadelphia, Pennsylvania 19103 and the Maryland Department of the Environment, 2500 Broening Highway, Baltimore, MD 21224.

FOR FURTHER INFORMATION CONTACT: Dianne J. McNally, 215-814-3297, at the EPA Region III address above, or by e-mail at mcnally.dianne@epa.gov. Please note that any formal comments must be submitted, in writing, as provided in the ADDRESSES section of this document.

SUPPLEMENTARY INFORMATION: For further information on this action, pertaining to approval of MDE's delegation of authority for the hazardous air pollutant emission standards for perchloroethylene dry-cleaning facilities, hard and decorative chromium electroplating and chromium anodizing tanks, ethylene oxide sterilization facilities, halogenated solvent cleaning, secondary lead smelting, hazardous waste combustors, and portland cement manufacturing (Clean Air Act section 112), please see the information provided in the direct final action, with the same title, that is located in the “Rules and Regulations” section of this Federal Register publication.

Dated: January 22, 2002.
Judith M. Katz,
Director, Air Protection Division,Region III.

[FR Doc. 02-2231 Filed 1-29-02; 8:45 am]

BILLING CODE 6560-50-U